ENVIRONMENTAL PROTECTION AGENCY

[EPA-HQ-OW-2019-0174; FRL 10006-01-OW]

National Water Reuse Action Plan: Collaborative Implementation (Version 1)

AGENCY: Environmental Protection Agency (EPA).

ACTION: Notice of availability.

SUMMARY: The Environmental Protection Agency (EPA) is announcing the release of the National Water Reuse Action Plan: Collaborative Implementation (Version 1). The Action Plan seeks to promote the consideration of water reuse as a tool to improve the resiliency, security, and sustainability of the Nation's water. The unique features of the Action Plan include creating new partnerships, catalyzing action through implementation milestones, and providing an online, transparent forum to share information, collaborate, and describe progress and results. This Action Plan aims to leverage the talent and expertise of industry, agriculture, governments at the federal, state, tribal, and local levels, and other stakeholders.

The Action Plan is available in two forms: a print version that identifies action leaders, implementation milestones, and target completion dates, and a dynamic online platform that will undergo routine updates on each action's progress.

FOR FURTHER INFORMATION CONTACT: John Ravenscroft, Office of Science and Technology, Office of Water (Mail Code 3207A), Environmental Protection Agency, 1200 Pennsylvania Avenue NW, Washington, DC 20460; telephone number: (202) 566-1101; email address: ravenscroft.john@epa.gov.

SUPPLEMENTARY INFORMATION:

I. General Information

A. How can I get copies of this document and other related information?

1. Docket. The EPA has established a docket for this action under Docket ID No. EPA-HQ-OW-0174. Publicly available docket materials are available electronically through www.regulations.gov, posted online on the EPA's water reuse website (www.epa.gov/waterreuse/water-reuse-action-plan) or in hard copy at the Water Docket in the EPA Docket Center, (EPA/DC) EPA West, Room 3334, 1301 Constitution Ave. NW, Washington, DC. The EPA Docket Center Public Reading Room is open from 8:30 a.m. to 4:30 p.m., Monday through Friday, excluding federal holidays. The telephone number for the Public Reading Room is (202) 566-1744, and the telephone number for the Water Docket is (202) 566-2426.

2. Electronic Access. You may access this Federal Register document electronically from the Government Printing Office under the “Federal Register” listings FDsys (http://www.gpo.gov/fdsys/browse/collection.action?collectionCode=FR).

II. Why develop a water reuse action plan?

Water is critical to our Nation's health, strength, security, and resilience, yet the solutions available to manage water and its availability and quality are often complex. A comprehensive approach to water resource management is critical to ensuring long-term sustainability of the United States' water supply. Water reuse can be a tool, when considered as part of integrated water resources planning, to ensure safe and reliable sources of water at the national, state, and local level well into the future. This Action Plan seeks to foster greater consideration of water reuse across the water sector, such as agriculture, manufacturing, potable water, national security, environmental restoration, and more. The EPA and federal partners have facilitated development of the Action Plan across the water sector to accelerate the consideration of water reuse approaches and build on existing science, research, policy, technology, and both national and international experiences.

III. Developing the National Water Reuse Action Plan: Collaborative Implementation (Version 1)

On February 27, 2019, the EPA announced that the Agency would facilitate the development of a National Water Reuse Action Plan to better integrate federal policy and leverage the expertise of both industry and government to ensure the effective use of the Nation's water resources. The draft National Water Reuse Action Plan (Draft Plan) was released in September 2019 for public comment. The Draft Plan built on decades of water reuse experience and practice and identified 46 potential actions across 10 thematic areas (e.g., policy coordination, technology development, outreach/communication, and the workforce). The Draft Plan discussed the business case for water reuse recognizing five major sources of water—agriculture, industry, municipal wastewater, stormwater, and oil and gas produced water—that could be reclaimed by treatment to meet “fit-for-purpose specifications” for a variety of end uses including: Potable water supplies, non-potable uses, agriculture and irrigation and industrial processes. Public comment was accepted on the Draft Plan from September 10, 2019 through December 16, 2019. During the public comment period, the EPA continued stakeholder outreach with water resource managers, sustainability planners, local, state and federal government agencies, industry, non-profits, researchers, and others, to inform this version of the Action Plan.

The public input and comments served several critical purposes:

1. Identification of the actions with the greatest interest;

2. Identification of specific implementation milestones;

3. Identification of willing leaders and partners;

4. Identification of potential new actions; and

5. Contribution of rich perspective and commentary to inform specific actions.

In addition to a print version, the EPA designed the Action Plan's corresponding website to visually represent continued progress on actions from stakeholders. The online platform complements the Action Plan document by highlighting and expanding upon the array of actions presented in the Draft Plan and discussed in the public docket.

Dated: February 27, 2020.
David P. Ross,
Assistant Administrator.

[FR Doc. 2020-04353 Filed 3-2-20; 8:45 am]

BILLING CODE 6560-50-P